INTERNATIONAL TRADE COMMISSION

[Investigation No. 731-TA-1046 (Preliminary)]

Tetrahydrofurfuryl Alcohol From China

Determination

On the basis of the record ¹ developed in the subject investigation, the United States International Trade Commission (Commission) determines, pursuant to section 733(a) of the Tariff Act of 1930 (19 U.S.C. 1673b(a)) (the Act), that there is a reasonable indication that an industry in the United States is materially injured by reason of imports from China of tetrahydrofurfuryl alcohol, provided for in subheading 2932.13.00 of the Harmonized Tariff Schedule of the United States, that are alleged to be sold in the United States at less than fair value (LTFV).

¹ The record is defined in sec. 207.2(f) of the Commission's Rules of Practice and Procedure (19 CFR 207.2(f)).

Commencement of Final Phase Investigation

Pursuant to section 207.18 of the Commission's rules, the Commission also gives notice of the commencement of the final phase of its investigation. The Commission will issue a final phase notice of scheduling, which will be published in the Federal Register as provided in section 207.21 of the Commission's rules, upon notice from the Department of Commerce (Commerce) of an affirmative preliminary determination in the investigation under section 733(b) of the Act, or, if the preliminary determination is negative, upon notice of an affirmative final determination in that investigation under section 735(a) of the Act. Parties that filed entries of appearance in the preliminary phase of the investigation need not enter a separate appearance for the final phase of the investigation. Industrial users, and, if the merchandise under investigation is sold at the retail level, representative consumer organizations have the right to appear as parties in Commission antidumping and countervailing duty investigations. The Secretary will prepare a public service list containing the names and addresses of all persons, or their representatives, who are parties to the investigation.

Background

On June 23, 2003, a petition was filed with the Commission and Commerce by Penn Specialty Chemicals, Inc., Plymouth Meeting, PA, alleging that an industry in the United States is materially injured or threatened with material injury by reason of LTFV imports of tetrahydrofurfuryl alcohol from China. Accordingly, effective June 23, 2003, the Commission instituted antidumping duty investigation No. 731-TA-1046 (Preliminary).

Notice of the institution of the Commission's investigation and of a public conference to be held in connection therewith was given by posting copies of the notice in the Office of the Secretary, U.S. International Trade Commission, Washington, DC, and by publishing the notice in the Federal Register of June 30, 2003 (69 FR 38721). The conference was held in Washington, DC, on July 14, 2003, and all persons who requested the opportunity were permitted to appear in person or by counsel.

The Commission transmitted its determination in this investigation to the Secretary of Commerce on August 7, 2003. The views of the Commission are contained in USITC Publication 3620 (August 2003), entitled Tetrahydrofurfuryl Alcohol from China: Investigation No. 1046 (Preliminary).

By order of the Commission.
Issued: August 11, 2003.
Marilyn R. Abbott,
Secretary to the Commission.

[FR Doc. 03-20814 Filed 8-14-03; 8:45 am]

BILLING CODE 7020-02-P